ENVIRONMENTAL PROTECTION AGENCY

[FRL-9906-69-OEI]

Cross-Media Electronic Reporting: Authorized Program Revision Approval, City of Grand Rapids, Michigan

AGENCY: Environmental Protection Agency (EPA).

ACTION: Notice.

SUMMARY: This notice announces the Environmental Protection Agency's (EPA) approval of the City of Grand Rapids' request to revise its General Pretreatment Regulations for Existing and New Sources of Pollution EPA-authorized program to allow electronic reporting.

DATES: EPA's approval is effective February 13, 2014.

FOR FURTHER INFORMATION CONTACT: Karen Seeh, U.S. Environmental Protection Agency, Office of Environmental Information, Mail Stop 2823T, 1200 Pennsylvania Avenue NW., Washington, DC 20460, (202) 566-1175, seeh.karen@epa.gov.

SUPPLEMENTARY INFORMATION: On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR requires that state, tribal or local government agencies that receive, or wish to begin receiving electronic reports under their EPA-authorized programs must apply to EPA for a revision or modification of those programs and obtain EPA approval. Subpart D provides standards for such approvals based on consideration of the electronic document receiving systems that the state, tribe, or local government will use to implement the electronic reporting. Additionally, § 3.1000(b) through (e) of 40 CFR part 3, subpart D provides special procedures for program revisions and modifications to allow electronic reporting to be used at the option of the state, tribe or local government in place of procedures available under existing program-specific authorization regulations. An application submitted under the subpart D procedures must show that the state, tribe or local government has sufficient legal authority to implement the electronic reporting components of the programs covered by the application and will use electronic document receiving systems that meet the applicable subpart D requirements.

On October 23, 2012, the City of Grand Rapids Environmental Services Department (Grand Rapids ESD) submitted an application titled “LinkoExchange System” for revision of its EPA-authorized authorized part 403 program under title 40 CFR. EPA reviewed Grand Rapids ESD's request to revise its EPA-authorized part 403—General Pretreatment Regulations for Existing and New Sources of Pollution program and, based on this review, EPA determined that the application met the standards for approval of authorized program revision set out in 40 CFR part 3, subpart D. In accordance with 40 CFR 3.1000(d), this notice of EPA's decision to approve Grand Rapids ESD's request to revise its Part 403—General Pretreatment Regulations for Existing and New Sources of Pollution program to allow electronic reporting under 40 CFR part 403 is being published in the Federal Register.

Grand Rapids ESD was notified of EPA's determination to approve its application with respect to the authorized program listed above.

Dated: January 30, 2014.
Andrew Battin,
Director, Office of Information Collection.

[FR Doc. 2014-03178 Filed 2-12-14; 8:45 am]

BILLING CODE 6560-50-P